SECURITIES AND EXCHANGE COMMISSION

[Release No. IC-27912]

Notice of Applications for Deregistration Under Section 8(f) of the Investment Company Act of 1940

July 27, 2007.

The following is a notice of applications for deregistration under section 8(f) of the Investment Company Act of 1940 for the month of July, 2007. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on August 22, 2007, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F. Street, NE., Washington, DC 20549-1090.

FOR FURTHER INFORMATION CONTACT: Diane L. Titus at (202) 551-6810, SEC, Division of Investment Management, Office of Investment Company Regulation, 100 F. Street, NE., Washington, DC 20549-4041.

Portico Funds, Inc.

[File No. 811-10511]

Summary: Applicant seeks an order declaring that it has ceased to be an investment company. Applicant has never made a public offering of its securities and does not propose to make a public offering or engage in business of any kind.

Filing Dates: The application was filed on October 25, 2002, and amended on July 18, 2007.

Applicant's Address: c/o U.S. Bancorp Asset Management, Inc., U.S. Bancorp Center, 800 Nicollet Mall, Minneapolis, MN 55402.

Conseco Fund Group

[File No. 811-7839]

Summary: Applicant seeks an order declaring that it has ceased to be an investment company. On April 1, 2004, applicant transferred its assets to The Managers Trust II, based on net asset value. Expenses of $920,370 incurred in connection with the reorganization were paid by 40/86 Advisors, Inc., applicant's investment adviser, and The Managers Funds LLC, the acquiring fund's investment adviser.

Filing Dates: The application was filed on June 25, 2007, and amended on July 20, 2007.

Applicant's Address: 11825 North Pennsylvania St., Carmel, IN 46032.

First Investors Fund For Income, Inc.

[File No. 811-2107]

Summary: Applicant seeks an order declaring that it has ceased to be an investment company. On January 27, 2006, applicant transferred its assets to First Investors Income Funds, based on net asset value. Expenses of $173,081 incurred in connection with the reorganization were paid by applicant.

Filing Date: The application was filed on July 2, 2007.

Applicant's Address: 95 Wall St., New York, NY 10005.

First Investors Special Bond Fund, Inc.

[File No. 811-2981]

Summary: Applicant seeks an order declaring that it has ceased to be an investment company. On April 28, 2006, applicant transferred its assets to First Investors Life Series Funds, based on net asset value. Expenses of $2,345 incurred in connection with the reorganization were paid by applicant.

Filing Date: The application was filed on July 2, 2007.

Applicant's Address: 95 Wall St., New York, NY 10005.

First Investors Global Fund, Inc.

[File No. 811-3169]

Summary: Applicant seeks an order declaring that it has ceased to be an investment company. On January 27, 2006, applicant transferred its assets to First Investors Equity Funds, based on net asset value. Expenses of $125,979 incurred in connection with the reorganization were paid by applicant.

Filing Date: The application was filed on July 2, 2007.

Applicant's Address: 95 Wall St., New York, NY 10005.

First Investors Insured Tax Exempt Fund, Inc.

[File No. 811-2923]

First Investors New York Insured Tax Free Fund, Inc.

[File No. 811-3843]

First Investors Multi-State Insured Tax Free Fund

[File No. 811-4623]

Executive Investors Trust

[File No. 811-4927]

Summary: Each applicant seeks an order declaring that it has ceased to be an investment company. On April 28, 2006, each applicant transferred its assets to First Investors Tax Exempt Funds, based on net asset value. Expenses of $131,377, $24,636, $68,163 and $16,938, respectively, incurred in connection with the reorganizations were paid by the applicants.

Filing Date: The applications were filed on July 2, 2007.

Applicants' Address: 95 Wall St., New York, NY 10005.

Badgley Funds, Inc.

[File No. 811-8769]

Summary: Applicant seeks an order declaring that it has ceased to be an investment company. On May 24, 2007, applicant made its final liquidating distribution to shareholders, based on net asset value. Expenses of $33,041 incurred in connection with the liquidation were paid by applicant and Badgley, Phelps & Bell, applicant's investment adviser.

Filing Dates: The application was filed on May 30, 2007, and amended on July 17, 2007.

Applicant's Address: Badgley Funds, Inc., 1420 Fifth Ave., Seattle, WA 98101.

American Century Avanti Funds, Inc.

[File No. 811-10217]

Summary: Applicant seeks an order declaring that it has ceased to be an investment company. Applicant has never made a public offering of its securities and does not propose to make a public offering or engage in business of any kind.

Filing Dates: The application was filed on June 1, 2007, and amended on July 16, 2007.

Applicant's Address: 4500 Main St., Kansas City, MO 64111.

Prudential Europe Growth Fund, Inc.

[File No. 811-7167]

Summary: Applicant seeks an order declaring that it has ceased to be an investment company. On November 20, 2003, applicant transferred its assets to Jennison Global Growth Fund, a series of Prudential World Fund, Inc., based on net asset value. Expenses of approximately $248,434 incurred in connection with the reorganization were paid by applicant.

Filing Date: The application was filed on July 3, 3007.

Applicant's Address: Gateway Center Three, 100 Mulberry St., Newark, NJ 07102-4077.

First Investors Series Fund

[File No. 811-5690]

Summary: Applicant seeks an order declaring that it has ceased to be an investment company. On January 27, 2006 and April 28, 2006, applicant transferred its assets to First Investors Equity Funds, First Investors Income Funds, and First Investors Tax Exempt Funds, based on net asset value. Expenses of $422,564 incurred in connection with the reorganization were paid by applicant.

Filing Date: The application was filed on July 2, 2007.

Applicant's Address: 95 Wall St., New York, NY 10005.

Value Line Hedged Opportunity Fund, Inc.

[File No. 811-8607].

Value Line Smaller Companies Fund, Inc.

[File No. 811-21608].

Value Line Value Fund, Inc.

[File No. 811-21639].

Summary: Each applicant seeks an order declaring that it has ceased to be an investment company. Applicants have never made a public offering of their securities and do not propose to make a public offering or engage in business of any kind.

Filing Dates: The applications were filed on May 30, 2007, and amended on July 11, 2007.

Applicants' Address: 220 East 42nd St., New York, NY 10017.

Vestaur Securities Fund

[File No. 811-2320]

Summary: Applicant, a closed-end investment company, seeks an order declaring that it has ceased to be an investment company. On May 23, 2005, applicant transferred its assets to Evergreen Fixed Income Trust, based on net asset value. Expenses of $147,380 incurred in connection with the reorganization were paid by applicant and Evergreen Investment Management Company, LLC, investment adviser to both applicant and the acquiring fund.

Filing Dates: The application was filed on October 12, 2006, and amended on July 13, 2007.

Applicant's Address: 200 Berkeley St., Boston, MA 02116.

4086 Series Trust

[File No. 811-3641]

Summary: Applicant seeks an order declaring that it has ceased to be an investment company. On March 29, 2007, three series of 40|86 Series Trust, Fixed Income Portfolio, Government Securities Portfolio and Money Market Portfolio, were liquidated and cash was distributed to each series' respective shareholders pro rata based on share ownership. On May 2, 2007, the shares of the two remaining series of 40|86 Series Trust, Equity Portfolio and Balanced Portfolio, were redeemed in kind by the sole shareholder of each series, which is unaffiliated with the investment adviser of 40|86 Series Trust. Expenses of approximately $ 177,500 incurred in connection with the liquidation were paid by 40|86 Advisors, Inc., applicant's investment adviser.

Filing Dates: The application was filed on June 13, 2007, and amended on July 18, 2007 and July 20, 2007.

Applicant's Address: 11825 N. Pennsylvania Street, Carmel, IN 46032.

Huntington VA Funds

[File No. 811-9481]

Summary: Applicant seeks an order declaring that it has ceased to be an investment company. On June 23, 2006, Applicant made a distribution of its assets to its shareholders, based on net asset value, in connection with the merger of Applicant (a Massachusetts business trust) into the Huntington Funds (a Delaware statutory trust). Expenses of $138,306.12 were incurred in connection with the merger. These expenses were shared pro-rata among all portfolios of Applicant and the Huntington Funds.

Filing Dates: The application was filed on March 6, 2007, and amended on June 28, 2007.

Applicant's Address: Huntington VA Funds, 5800 Corporate Drive, Pittsburgh, Pennsylvania 15237-7010.

For the Commission, by the Division of Investment Management, pursuant to delegated authority.
Florence E. Harmon,
Deputy Secretary.

[FR Doc. E7-14913 Filed 8-1-07; 8:45 am]

BILLING CODE 8010-01-P